DEPARTMENT OF COMMERCE

International Trade Administration

[C-122-815]

Pure and Alloy Magnesium From Canada: Notice of Initiation of New Shipper Countervailing Duty Review

AGENCY: Import Administration, International Trade Administration, Department of Commerce.

ACTION: Notice of initiation of new shipper countervailing duty review.

SUMMARY: On February 28, 2002, the Department of Commerce received a request to conduct a new shipper review of the countervailing duty orders on pure and alloy magnesium from Canada. In accordance with section 751(a)(2)(B) of the Tariff Act of 1930, as amended, and 19 CFR 351.214(d), we are initiating this new shipper review.

EFFECTIVE DATE: April 3, 2002.

FOR FURTHER INFORMATION CONTACT: Sally Hastings or Craig Matney, Import Administration, International Trade Administration, U.S. Department of Commerce, 14th Street and Constitution Avenue, NW., Washington, DC 20230; telephone (202) 482-3464 or (202) 482-1778, respectively.

Applicable Statute and Regulations

Unless otherwise indicated, all citations to the Tariff Act of 1930, as amended (“the Act”), are references to the provisions effective January 1, 1995, the effective date of the amendments made to the Act by the Uruguay Round Agreements Act. In addition, all references to the Department of Commerce's (“the Department's”) regulations are to 19 CFR Part 351 (April 2001).

SUPPLEMENTARY INFORMATION:

Background

On February 28, 2002, the Department received a request from Magnola Metallurgy Inc. (“Magnola”), to conduct a new shipper review of the countervailing duty orders on pure and alloy magnesium, issued August 31, 1992 (57 FR 39392). These orders have a February semi-annual anniversary month. Magnola's request was made pursuant to section 751(a)(2)(B) of the Act and 19 CFR 351.214(d).

Initiation of Review

In accordance with 19 CFR 351.214(b)(2) of the Department's regulations, Magnola provided certification that (1) it did not export subject merchandise to the United States during the period of investigation (“POI”), and (2) since the investigation was initiated, it never has been affiliated with any exporter or producer who exported the subject merchandise to the United States during the POI, including those not individually examined during the investigation. Also, in accordance with 19 CFR 351.214(b)(2), Magnola submitted documentation establishing: (1) The date on which it first shipped the subject merchandise for export to the United States; (2) the volume of its first and subsequent shipments; and, (3) the date of the first sale to an unaffiliated customer in the United States. In addition, Magnola provided a certification stating that it has informed the Government of Canada (“GOC”) that the GOC will be required to provide a full response to the Department's countervailing duty questionnaire.

Therefore, in accordance with section 751(a)(2)(B) of the Act and 19 CFR 351.214, we are initiating a new shipper review of the countervailing duty orders on pure and alloy magnesium from Canada. Pursuant to 19 CFR 351.214(h)(i), we intend to issue the preliminary results of this review not later than 180 days from the date of publication of this notice. All provisions of 19 CFR 351.214 will apply to Magnola throughout the duration of this new shipper review.

In a countervailing duty proceeding, the standard period of review (“POR”) in a new shipper review is the same as the period specified in 19 CFR 213(e)(2) for an administrative review. Therefore, the POR for this new shipper review is January 1, 2001, through December 31, 2001, and we will review the subsidies received by the company during that period.

Concurrent with publication of this notice, and in accordance with 19 CFR 351.214(e), we will instruct the Customs Service to suspend liquidation of any unliquidated entries of the subject merchandise from the relevant exporter or producer, and to allow, at the option of the importer, the posting, until the completion of the review, of a bond or security in lieu of a cash deposit for each entry of the subject merchandise exported by Magnola.

Interested parties must submit applications for disclosure under administrative protective orders in accordance with 19 CFR 351.305 and 351.306.

This initiation notice is in accordance with section 751(a) of the Act and 19 CFR 351.214.

Dated: March 27, 2002.
Richard W. Moreland,
Deputy Assistant Secretary for Import Administration.

[FR Doc. 02-8072 Filed 4-2-02; 8:45 am]

BILLING CODE 3510-DS-P